DEPARTMENT OF DEFENSE

Department of the Army; Corps of Engineers

Inland Waterways Users Board

AGENCY: Department of the Army, U.S. Army Corps of Engineers, DoD.

ACTION: Notice of open meeting.

SUMMARY: In Accordance with 10(a)(2) of the Federal Advisory Committee Act (Pub. L. 92-463), announcement is made of the forthcoming meeting.

Name of Committee: Inland Waterways Users Board (Board).

Date: August 11, 2009.

Location: Luther F. Carson Four Rivers Center, 100 Kentucky Ave., Paducah, KY 42003-1500, with accommodations at the Courtyard by Marriott Paducah, 3835 Technology Drive, Paducah, KY 42001 (270-442-3600 or 1-800-321-2211).

Time: Registration will begin at 8 a.m. and the meeting is scheduled to adjourn at approximately 1 p.m.

Agenda: The Board will consider its project investment priorities for the next year, and hear briefings on the status of the funding for inland navigation projects and studies, the status of the Inland Waterways Trust Fund, and the status of program management team activities for a future business model for the inland waterways system.

FOR FURTHER INFORMATION CONTACT: Mr. Mark R. Pointon, Headquarters, U.S. Army Corps of Engineers, CECW-ID, 441 G Street, NW., Washington, DC 20314-1000; Ph: 202-761-4691.

SUPPLEMENTARY INFORMATION: The meeting is open to the public. Any interested person may attend, appear before, or file statements with the committee at the time and in the manner permitted by the committee.

Brenda S. Bowen,
Army Federal Register Liaison Officer.

[FR Doc. E9-16346 Filed 7-9-09; 8:45 am]

BILLING CODE 3720-58-P